DEPARTMENT OF JUSTICE

National Institute of Corrections

Solicitation for a Cooperative Agreement—Large Jail Administration: Training Curriculum Development

AGENCY: National Institute of Corrections, Department of Justice.

ACTION: Solicitation for a Cooperative Agreement.

SUMMARY: The National Institute of Corrections (NIC), Jails Division, is seeking applications for the development of curricula on the administration of large jails (jails with 1,000 or more beds). The project will be for an eighteen-month period and will be carried out in conjunction with the NIC Jails Division. The awardee will work closely with NIC staff on all aspects of the project. To be considered, applicants must demonstrate, at a minimum, (1) in-depth knowledge of the purpose, functions, and operational complexities of local jails, (2) expertise on the key elements in jail administration (see “Supplementary Information”), (3) expertise on the implications of jail size for implementing these elements, (4) experience in developing curriculum, based on adult learning principles, and (5) extensive experience in working with local jails on issues related to administration and operations.

DATES: Applications must be received by 4 p.m. (EDT) on July 6, 2009.

ADDRESSES: Mailed applications must be sent to: Director, National Institute of Corrections, 320 First Street, NW., Room 5007, Washington, DC 20534. Applicants are encouraged to use Federal Express, UPS, or similar service to ensure delivery by the due date as mail at NIC is sometimes delayed due to security screening.

Applicants who wish to hand-deliver their applications should bring them to 500 First Street, NW., Washington, DC 20534, and dial 202-307-3106, ext. 0, at the front desk for pickup.

Faxed or e-mailed applications will not be accepted; however, electronic applications can be submitted via http://www.grants.gov.

FOR FURTHER INFORMATION CONTACT: A copy of this announcement and the required application forms can be downloaded from the NIC Web page at http://www.nicic.gov/cooperativeagreements.

Questions about this project and the application procedures should be directed to Mike Jackson, Correctional Program Specialist, National Institute of Corrections. Questions must be e-mailed to Mr. Jackson at mpjackson@bop.gov. Mr. Jackson will respond by e-mail to the individual. Also, all questions and responses will be posted on NIC's Web site at http://www.nicic.gov for public review. (The names of those submitting the questions will not be posted). The Web site will be updated daily and postings will remain on the website until the closing date of this cooperative agreement solicitation.

SUPPLEMENTARY INFORMATION: Background: The NIC Jails Division has identified the following key elements in the administration of all jails, regardless of size: (1) Use of jail standards in jail management, (2) risk management; (3) policy and procedure development and implementation; (4) analysis of staffing levels required to carry out operations; (5) workforce management, including recruiting, hiring, retaining, training, and supervising staff; (6) development and implementation of strategies to manage inmate behavior; (7) budget management, and (8) operational assessment.

NIC recognizes that, although these elements are common to the administration of all jails, the administrator's role in implementing them is directly affected by the size of the jail. Therefore, the NIC Jails Division currently offers the “Administering the Small Jail” and “Jail Administration” (for medium-sized jails) training programs. The NIC Jails Division now intends to develop a training program for large jail administrators on these elements.

Scope of Work

The cooperative agreement awardee will draft a curriculum on the key elements of jail administration for large jail administrators; pilot the curriculum; and revise the curriculum based on an assessment of the pilot. The final curriculum will include: Program description (overview); detailed narrative lesson plans; presentation slides for each lesson plan; and a participant manual that follows the lesson plans. The curriculum will be designed according to the Instructional Theory Into Practice model for adult learners. Lesson plans will be in a format that NIC provides.

The schedule of activities for this project should include, at a minimum, the following.

Meetings

The cooperative agreement awardee will attend an initial meeting with the NIC project manager for a project overview and preliminary planning. This will take place shortly after the cooperative agreement is awarded.

The awardee will also meet up to two times with NIC staff and up to five administrators of large jails. The purpose of these meetings is to clearly identify the role of the large jail administrator in implementing the key elements of jail administration. Note that the jail administrators will be selected by NIC, but all costs associated with their meeting attendance will be paid by the awardee.

The awardee will meet up to three times with NIC staff during the development of the draft curriculum. One meeting will be devoted to drafting a framework for the curriculum, including module topics, performance objectives, estimated timeframes, sequencing, and potential instructional strategies. The other meetings will focus on lesson plan development, review, and revision and other project issues, as they arise. These meetings will last up to three days each.

The awardee will meet up to two times with NIC staff during the refinement of the draft curriculum into a final product. These meetings will focus on curriculum revisions and other project issues, as they arise.

Development of Draft Curriculum

The cooperative agreement awardee will draft the full curriculum, in consultation with NIC staff. Once the curriculum is drafted, the awardee will send it to NIC staff and selected large jail administrators for review.

The jail administrators will be chosen by NIC, but the awardee will reimburse them for time and expenses related to the review. The draft curriculum must be submitted sufficiently in advance of the pilot to ensure there is time to make any required changes.

Curriculum Pilot

The draft curriculum will be piloted to determine needed refinements. Although the length of the program will be determined by the content, the awardee should project that the program will last up to six full days.

The awardee, in conjunction with NIC, will identify up to four trainers for the program. The awardee will contract with and pay all costs associated with the trainers, including travel, lodging, meals, fees, and miscellaneous expenses. NIC will secure training space at its academy in Aurora, Colorado, select program participants; notify participants of selection and program details, supply training equipment and materials, and provide for participant lodging, meals, and transportation.

NIC staff will attend the entire program, and the awardee will work closely with NIC staff during program delivery. At the end of each program day, the awardee will meet with NIC staff to review the modules delivered.

Curriculum Revision and Final Product

Based on the pilot and discussions with NIC staff, the awardee will revise the curriculum, and submit the revised curriculum to NIC staff for final review. The awardee will also make any remaining changes, and submit the completed curriculum to NIC in hard copy (1) and on disk in Word format.

Application Requirements: An application package must include OMB Standard Form 425, Application for Federal Assistance; a cover letter that identifies the audit agency responsible for the applicant's financial accounts as well as the audit period or fiscal year under which the applicant operates (e.g., July 1 through June 30); and an outline of projected costs with the budget and strategy narratives described in this announcement. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.org/Downloads/PDF/certif-frm.pdf.)

Applications should be concisely written, typed double spaced, and reference the NIC opportunity number and title referenced in this announcement. Submissions that are hand delivered or sent via Fed-Ex, please include an original and three copies of the full proposal (program and budget narrative, application forms, assurances and other descriptions). The original should have the applicant's signature in blue ink. Electronic submissions will be accepted only via http://www.grants.gov.

The narrative portion of the application should include, at a minimum: a brief paragraph indicating the applicant's understanding of the project's purpose; a brief paragraph that summarizes the project goals and objectives; a clear description of the methodology that will be used to complete the project and achieve its goals; a statement or chart of measurable project milestones and timelines for the completion of each milestone; a description of the qualifications of the applicant organization and a resume for the principle and each staff member assigned to the project (including instructors) that documents relevant knowledge, skills, and abilities to carry out the project; and a budget that details all costs for the project, shows consideration for all contingencies for the project, and notes a commitment to work within the proposed budget.

The narrative portion of the application should not exceed ten double-spaced typewritten pages, excluding attachments related to the credentials and relevant experience of staff.

In addition to the narrative and attachments, the applicant must submit one full sample curricula developed by the primary curriculum developers named in the application. The sample curriculum must include lesson plans, presentation slides, and a participant manual.

Authority: Public Law 93-415

Funds Available: NIC is seeking the applicant's best ideas regarding accomplishment of the scope of work and the related costs for achieving the goals of this solicitation. Funds may be used only for the activities that are linked to the desired outcome of the project.

Eligibility of Applicants: An eligible applicant is any state or general unit of local government, private agency, educational institution, organization, individual, or team with expertise in the described areas. Applicants must have demonstrated ability to implement a project of this size and scope.

Review Considerations: Applications will be subject to the NIC Review Process. The criteria for the evaluation of each application will be as follows:

Project Design and Management—30 points

Is there a clear understanding of the purpose of the project and the nature and scope of project activities? Does the applicant give a clear and complete description of all work to be performed for this project? Does the applicant clearly describe a work plan, including objectives, tasks, and milestones necessary to project completion? Are the objectives, tasks, and milestones realistic and will they achieve the project as described in NIC's solicitation for this cooperative agreement? Are the roles and the time required of project staff clearly defined? Is the applicant willing to meet with NIC staff, at a minimum, as specified in the solicitation for this cooperative agreement?

Applicant Organization & Project Staff Background—50 points

Is there a description of the background and expertise of all project personnel as they relate to this project? Is the applicant capable of managing this project? Does the applicant have an established reputation or skill that makes the applicant particularly well qualified for the project? Do primary project personnel, individually or collectively, have in-depth knowledge of the purpose, functions, and operational complexities of local jails? Do the primary project personnel, individually or collectively, have expertise on the key elements in jail administration? Do the primary project personnel, individually or collectively, have expertise on the implications of jail size for implementing these elements? Do the primary project personnel, individually or collectively, have experience in developing curriculum based on the Instructional Theory Into Practice model? Do primary project personnel, individually or collectively, have extensive experience in working with local jails on issues related to administration and operations? Does the staffing plan propose sufficient and realistic time commitments from key personnel? Are there written commitments from proposed staff that they will be available to work on the project as described in the application?

Budget—20 points

Does the application provide adequate cost detail to support the proposed budget? Are potential budget contingencies included? Does the application include a chart that aligns the budget with project activities along a timeline with, at a minimum, quarterly benchmarks? In terms of program value, is the estimated cost reasonable in relation to work performed and project products?

Sample Curricula—35 points

Does the sample curriculum include all components specified in the RFP (lesson plans, presentation slides, and participant manual)? Are the lesson plans designed according to the Instructional Theory Into Practice model? Does each lesson plan have performance objectives that describe what the participants will accomplish during the module? Are the lesson plans detailed, clear, and well written (spelling, grammar, punctuation)? Is the participant manual clear, and does it follow the lesson plans? Do the presentation slides effectively illustrate information in the lesson plans? Do the presentation slides have a professional appearance and can they be easily read from a distance (30-40 feet)?

Note: NIC will NOT award a cooperative agreement to an applicant who does not have a Dun and Bradstreet Database Universal Number (DUNS) and is not registered in the Central Contractor Registry (CCR).

Applicants can obtain a DUNS number at no cost by calling the dedicated toll-free DUNS number request line at 800-333-0505. Applicants who are sole proprietors should dial 866-705-5711 and select option #1.

Applicants may register in the CCR online at the CCR Web site at http://www.ccr.gov. Applicants can also review a CCR handbook and worksheet at this Web site.

Number of Awards: One.

NIC Opportunity Number: 09J71. This number should appear as a reference line in the cover letter, where the opportunity number is requested on Standard Form 424, and on the outside of the envelope in which the application is sent.

Catalog of Federal Domestic Assistance Number: 16.601; Executive Order 12372: This project is not subject to the provisions of the executive order.

Morris L. Thigpen,
Director, National Institute of Corrections.

[FR Doc. E9-14050 Filed 6-15-09; 8:45 am]

BILLING CODE 4410-36-P